Proclamation 7949 of October 14, 2005

White Cane Safety Day, 2005

By the President of the United States of America

A Proclamation

Americans who are blind or visually impaired are valuable and contributing members of our society, and many use a white cane to help them succeed at school, home, or work. White canes give these individuals greater mobility and enable them to participate in more aspects of community life. On White Cane Safety Day, we celebrate the progress that has been made for those who are blind or visually impaired, and we reaffirm our commitment to ensuring that these citizens can live and work with greater freedom and independence.

One of our Nation's defining values is compassion, and we must make certain that all our citizens are able to harness their talents, engage in productive work, and participate fully in society. My Administration is working to fulfill this goal for individuals with disabilities through the New Freedom Initiative. This comprehensive program helps increase the development and use of assistive and universally designed technologies, expand educational and employment opportunities, and improve access into daily community life. By working to reduce barriers and change old ways of thinking, we can help ensure that our Nation's opportunities are more accessible to all.

The Congress, by joint resolution (Public Law 88-628) approved on October 6, 1964, as amended, has designated October 15 of each year as “White Cane Safety Day.”

NOW, THEREFORE, I, GEORGE W. BUSH, President of the United States of America, do hereby proclaim October 15, 2005, as White Cane Safety Day. I call upon public officials, business leaders, educators, librarians, and all the people of the United States to observe this day with appropriate ceremonies, activities, and programs.

IN WITNESS WHEREOF, I have hereunto set my hand this fourteenth day of October, in the year of our Lord two thousand five, and of the Independence of the United States of America the two hundred and thirtieth.

B

[FR Doc. 05-21031

Filed 8-17-05; 8:45 am]

Billing code 3195-01-P